DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 84 FR 65981, dated December 12, 2019) is amended to reorganize the Center for Preparedness and Response, Deputy Director for Public Health Service and Implementation Science, Centers for Disease Control and Prevention.

Section C-B, Organization and Functions, is hereby amended as follows:

Delete in its entirety the titles and functional statements for Division of State and Local Readiness (CBCB) insert the following:

Division of State and Local Readiness (CBCB). The Division of State and Local Readiness (DSLR): (1) Provides program support, technical assistance, guidance, technical integration, and capacity building of preparedness planning across public health, healthcare, and emergency management sectors; and (2) provides fiscal oversight to state, local, tribal, and territorial public health department Cooperative Agreement recipients for the development, monitoring, and evaluation of public health capabilities, plans, infrastructure, and systems to prepare for and respond to terrorism, outbreaks of disease, natural disasters, and other public health emergencies.

Office of the Director (CBCB1). (1) Provides national leadership and guidance that supports and advances the work of state, local, tribal, and territorial public health emergency preparedness programs; (2) coordinates the development of guidelines and standards for programmatic materials within the division to provide technical assistance and program planning at the state, local, tribal, and territorial level; (3) represents and communicates the interests and needs of the state, local, tribal, and territorial jurisdictions on state and local preparedness and response issues; (4) develops and ensures effective partnerships with national stakeholders and preparedness and response partners; (5) provides oversight and management of division contracts, recipient awards and fiscal accountability; and (6) manages the IT strategy and infrastructure to support recipient programmatic and fiscal activities.

Program Implementation Branch (CBCBB). (1) Provides consultation, technical assistance, and training to state, territorial, tribal, and local health departments in management and operation of activities to support public health emergency preparedness programs and recovery, including the infrastructure and systems necessary to manage and use deployed medical countermeasure assets; (2) facilitates partnerships between public health preparedness programs at federal, state, and local levels to ensure their consistency, sharing of promising practices, and integration; (3) collaborates with and supports other divisions in CPR and other national centers across CDC to ensure high quality technical assistance is available to the grantees on preparedness capabilities; (4) monitors programmatic activities of cooperative agreements of state, local, tribal, and territorial organizations to assure program objectives and key performance indicators are achieved, including reviews of Cities Readiness Initiative response plans; (5) provides assistance to state and local governments and public health agencies to prepare for effective responses to large scale public health events; (6) evaluates and identifies gaps in jurisdictional operational readiness and facilitates plans and develops tools to address identified gaps; (7) maintains an information sharing platform to post resources and facilitate the sharing of best practices across CDC and jurisdictions; (8) improves the delivery of technical assistance to the public health entities; (9) serves as an agent of information to improve recipient access to healthcare preparedness tools and expertise and (10) collaborates with the Department during exercises or upon a federal deployment of assets.

Evaluation and Analysis Branch (CBCBC). (1) Assesses the effectiveness of the Public Health Emergency Preparedness (PHEP) Cooperative Agreement via performance measurement and evaluation; (2) develops and coordinates a strategy to measure and report on jurisdictional operational readiness; (3) provides analytic support and evaluation expertise to DSLR and CPR; and (4) fosters innovation and efficiency in evaluation and research through collaboration with healthcare and health security partners.

Field Assignee Services Branch (CBCBD). (1) Works with recipients to advance state and local preparedness efforts through placement of CDC field staff within state and local public health agencies; (2) provides scientific participation in development and implementation of field-based science initiatives and strategies; (3) provides situational awareness to CDC leadership when activated for public health responses; (4) provides consultation and technical assistance to state, territorial, tribal and local health departments in developing, implementing, and evaluating CPR activities and performance in support of CDC recommendations and those of their host site; (5) provides direct support for public health preparedness and epidemiologic capacity at the state, territorial, tribal, and local levels; (6) contributes as leaders in preparedness and epidemiology for a myriad of public health issues; (7) participates in the development of national preparedness and response policies and guidelines for public health emergencies and encourages and facilitates the transfer of guidelines into clinical and public health practice; (8) analyzes data to assess progress toward achieving program objectives and provides input for program management and evaluation reports for publications; (9) serves as liaison or focal point to assist state, territorial, tribal, and local partners in linking with proper resources, contacts, and obtaining technical assistance; (10) provides technical supervision and support for the CDC field staff and trainees as appropriate; (11) provides input into the development of branch and division policy, priorities, and operational procedures; (12) serves as an agent of information or technology transfer to ensure that effective methodology in one program is known and made available to other state and local programs; (13) analyzes technical and epidemiologic information to present at national and international scientific meetings and publishes programmatic, surveillance, epidemiologic information in collaboration with host agencies; and (14) develops and implements a comprehensive training and field placement program for entry-level public health preparedness and response professionals.

Sherri A. Berger,
Chief Operating Officer, Centers for Disease Control and Prevention.

[FR Doc. 2020-07939 Filed 4-14-20; 8:45 am]

BILLING CODE 4163-18-P